DEPARTMENT OF HEALTH AND HUMAN SERVICES

Administration for Children and Families

[CFDA Number: 93.095]

Announcing the Award of a New Single-Source Award to the National Council on Family Violence in Austin, TX

AGENCY: Family and Youth Services Bureau, ACYF, ACF, HHS.

ACTION: Notice of the award of a single-source cooperative agreement to the National Council on Family Violence to support the National Domestic Violence Hotline (Hotline).

SUMMARY: The Administration for Children and Families (ACF), Administration on Children, Youth and Families (ACYF), Family and Youth Services Bureau (FYSB), Division of Family Violence and Prevention Services (DFVPS) announces the award of a single-source cooperative agreement in the amount of $275,000 to the National Council on Family Violence in Austin, TX, for the Hotline. The Hotline, currently funded under the Family Violence Prevention and Services Act, provides direct services and referrals nationally for victims of family violence, domestic violence, and dating violence.

DATES: The period of support for this award is May 1, 2013 through April 30, 2015.

FOR FURTHER INFORMATION CONTACT: Angela Yannelli, Senior Program Specialist, Division of Family Violence Prevention and Services, 1250 Maryland Avenue SW., Suite 8210, Washington, DC 20024. Telephone: 202-401-5524; Email: Angela.Yannelli@acf.hhs.gov.

SUPPLEMENTARY INFORMATION: Award funds will support the efforts of the Hotline in providing critical services to victims of Hurricane Sandy that are also victims of family violence, domestic violence, and dating violence within the states of New Jersey and New York. The Hotline will conduct training for current disaster responders, provide training and technical assistance to local programs that run hotlines/crisis lines, and develop a public awareness campaign to publicize the various ways to contact the Hotline, the Teen Dating Abuse Helpline, state hotlines, and local program hotlines.

Reports from the New York and New Jersey Disaster Task Forces indicate the need for training on domestic violence in disaster response situations and on making connections to appropriate services for disaster case managers and for state, regional, and federal staff involved with on-scene response. Front-line disaster relief staff and volunteers may be the first responders to observe domestic violence in families they are supporting; however, they may not be able to discern signs of domestic violence due to a lack of training. In fact, many responders may confuse the stresses of the disaster with the stresses of domestic violence on the victim and may overlook abusive behaviors on the part of the intimate partner as signs of stress from the disaster.

Though based in Austin, TX, the Hotline's experience in providing victim advocacy, referrals, and program support makes it well-positioned to provide training to disaster responders in New York and New Jersey. Training will concentrate on protocols and referral procedures, accessing domestic violence services, recognizing the warning signs of domestic violence, safety planning, and maintaining ongoing health and wellness initiatives during the crisis response and recovery phase. In this effort, the Hotline will partner with the New Jersey Coalition for Battered Women, the New York State Coalition Against Domestic Violence, and national experts on domestic violence and disaster response to develop and offer appropriate and effective training.

Statutory Authority: Public Law 113-2, Disaster Relief Appropriations Act of 2013.

Bryan L. Samuels,
Commissioner, Administration on Children, Youth and Families.

[FR Doc. 2013-11075 Filed 5-8-13; 8:45 am]

BILLING CODE 4184-32-P